Title 3—

The President

Proclamation 9805 of October 12, 2018

Minority Enterprise Development Week, 2018

By the President of the United States of America

A Proclamation

During Minority Enterprise Development Week, we celebrate the success of minority-owned businesses and recognize their contributions to our Nation's prosperity. These businesses are part of the bedrock of our economy, employing eight million people and contributing more than $1 trillion in economic output each year.

My Administration is committed to empowering minority business owners by creating an environment in which all businesses can expand and thrive. We have eliminated unnecessary and burdensome regulations and effected commonsense, pro-growth policies. The Tax Cuts and Jobs Act enacted the biggest tax cuts and reforms in American history. Importantly, it created the Opportunity Zones Program, through which we are rewarding businesses that invest in distressed communities and that create jobs for those who, all too often, are left behind. We are also leveling the playing field for American businesses by renegotiating and modernizing our trade agreements, including by replacing the North American Free Trade Agreement with the new United States-Mexico-Canada Agreement.

Taken together, these new policies are delivering real results for the American people. Our Nation's unemployment rate has reached its lowest level in 50 years. Minority unemployment rates have fallen to record lows, with the unemployment rate for African Americans falling below 6 percent for the first time in history. The unemployment rate for Hispanic Americans and Asian Americans has also reached historic lows.

As minority-owned businesses continue to benefit from our resurgent economy, my Administration is looking to take additional steps to support these key drivers of economic growth. The Department of Commerce's Minority Business Development Agency is expanding its focus to include policy analysis that will identify opportunities for minority business enterprises across our country. Additionally, the new National Council for the American Worker is developing a National Workforce Strategy. Given the historically tight labor market and recent technological change, our Nation needs a workforce strategy that champions effective, results-driven education and training to meet the needs of students, workers, and businesses.

In the United States of America, each person has the opportunity to achieve their dreams and to build a better future for themselves and their families. Minority business owners exemplify this fundamental truth about our great Nation. This week in particular, we are grateful for the minority business owners who dedicate their time, energy, and entrepreneurial skills each day to improving the economy and restoring the American spirit in every community across the Nation.

NOW, THEREFORE, I, DONALD J. TRUMP, President of the United States of America, by virtue of the authority vested in me by the Constitution and the laws of the United States, do hereby proclaim October 14 through October 20, 2018, as National Minority Enterprise Development Week. I call upon all Americans to celebrate this week with programs, ceremonies, and activities to recognize the many contributions of American minority business enterprises.

IN WITNESS WHEREOF, I have hereunto set my hand this twelfth day of October, in the year of our Lord two thousand eighteen, and of the Independence of the United States of America the two hundred and forty-third.

[FR Doc. 2018-22936

Filed 10-17-18; 11:15 am]

Billing code 3295-F9-P